DEPARTMENT OF AGRICULTURE

Forest Service

Notice of Proposed New Fee Sites and Fee Increase at Existing Fee Sites; Federal Lands Recreation Enhancement Act (Title VIII, Pub. L. 108-447)

AGENCY: Fremont-Winema National Forests, USDA Forest Service.

ACTION: Notice of proposal to implement camping fees at full service campgrounds, and to increase camp fees at existing fee sites.

SUMMARY: The Fremont-Winema National Forests are planning to start charging fees at ten recreation campground sites, and increase camp fees at three existing fee sites and five recreation cabin rentals. The Forest is committed to responsibly serving the public by efficiently operating and, when necessary, modifying the services to ensure developed recreation sites are managed to health and safety standards, and provide recreation opportunities strategically across the Forests. As demographics change and new challenges are presented, it is the Forest's responsibility to respond and ensure that appropriate recreation services and facilities are available to the public.Fees are assessed based on the level of amenities and services provided, cost of operation and maintenance, market assessment and public comment. The fees listed are only proposed and will be determined upon further analysis and public comment. Funds from fees would be used for the continued operation and maintenance of these recreation sites.

Aspen Cabin, Bald Butte Lookout, Currier Guard Station, Drake Peak Lookout and Hager Mountain Lookout will continue to be available for overnight rental. The facilities are currently available for rent at either $25 or $30 per night. A financial analysis is being completed to determine the appropriate rental fee to cover operating expenses. Future fees may range between $40 and $50 per night. Lookout and forest cabin rentals offer a unique experience and are a widely popular offering on National Forests. Fees would continue to help protect and maintain lookout and cabin rentals and their historic integrity.

The fee structure at Digit Point Campground is proposed to change from the required $10.00 per campsite plus $5.00 for an extra vehicle for overnight use to $12.00 per campsite plus $5.00 for an extra vehicle. A fee of $5.00 per campsite is proposed when the water system is no longer active, primarily in the spring and fall.

The fee structure at Williamson River Campground is proposed to change from $6.00 per campsite plus $2.00 for an extra vehicle for overnight use to $10.00 per campsite plus $4.00 for an extra vehicle.

The fee structure at East Bay Campground is proposed to change from $8.00 per campsite plus $2.00 for an extra vehicle for overnight use to $10.00 per campsite plus $4.00 for an extra vehicle.

Campbell, Deadhorse, Cottonwood, Dog Lake, Lofton, Marster Springs, Silver Creek Marsh (campground and trailhead) and Thompson Reservoir Campgrounds are currently free full service campground sites. A financial analysis is being completed to determine appropriate fee rates. The proposed fee would be used to help maintain these campgrounds and is proposed to be between $6 and $8 a campsite, and $2.00 for an additional vehicle.

Walt Haring Snow Park is currently a free full service campground with a recreation vehicle dump station. A financial analysis is being completed to determine appropriate fee rates. The proposed fee would be used to help maintain this campground and is proposed to be between $6 and $8 a campsite. A fee of $5.00 is also proposed for use of the recreation vehicle dump station.Recreation fees would be reinvested in campground and cabin facilities where a fee is charged.

DATES: New fees would begin after April 2009.

ADDRESSES: Karen Shimamoto, Forest Supervisor, Fremont-Winema National Forests, 2819 Dahlia, Klamath Falls, Oregon 97601.

FOR FURTHER INFORMATION CONTACT: Rich Kehr, Recreation Fee Coordinator, 541-883-6722. Information about proposed fee changes can also be found on the Fremont-Winema National Forests Web site: http://www.fs.fed.us/r6/willamette/recreation/index.html.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation. People wanting to rent Aspen Cabin, Bald Butte Lookout, Currier Guard Station, Drake Peak Lookout and Hager Mountain Lookout need to do so through the National Recreation Reservation Service, at http://www.reserveamerica.com or by calling 1-877-444-6777.

Dated: August 20, 2008.
Karen Shimamoto,
Forest Supervisor,Fremont-Winema National Forests.

[FR Doc. E8-20215 Filed 9-2-08; 8:45 am]

BILLING CODE 3410-11-M